DEPARTMENT OF TRANSPORTATION

Research and Innovative Technology Administration

Intelligent Transportation Systems Program Advisory Committee; Notice of Meeting

AGENCY: ITS Joint Program Office, Research and Innovative Technology Administration, U.S. Department of Transportation.

ACTION: Notice.

The Intelligent Transportation Systems (ITS) Program Advisory Committee (ITS PAC) will hold a meeting on August 7, 2013, from 8:00 a.m. to 4:00 p.m. (EST), and on August 8, 2013, from 8:00 a.m. to 4:00 p.m. (EST) in Salon F of the Crystal City Marriott at Reagan National Airport, 1999 Jefferson Davis Highway, Arlington, VA 22202.

The ITS PAC, established under Section 5305 of Public Law 109-59, Safe, Accountable, Flexible, Efficient Transportation Equity Act: A Legacy for Users, August 10, 2005, and re-established under Section 53003 of Public Law 112-141, Moving Ahead for Progress in the 21st Century, July 6, 2012, was created to advise the Secretary of Transportation on all matters relating to the study, development, and implementation of intelligent transportation systems. Through its sponsor, the ITS Joint Program Office (JPO), the ITS PAC makes recommendations to the Secretary regarding ITS Program needs, objectives, plans, approaches, content, and progress.

The following is a summary of the tentative meeting agenda. August 7: (1) ITS JPO Program Update, (2) Review of Draft NHTSA Letter, (3) Discussion of Report on Deployment Incentives, (4) ITS Strategic Plan Update, and (5) Committee Discussion of ITS Strategic Plan Review. August 8: (1) Subcommittee Meetings to Finalize Recommendations to the Secretary of Transportation (Secretary), (2) Subcommittee Reports on Recommendations to the Secretary, and (3) Discussion of Final Recommendations to the Secretary.

The meeting will be open to the public, but limited space will be available on a first-come, first-served basis. Members of the public who wish to present oral statements at the meeting must request approval from Mr. Stephen Glasscock, the Committee Designated Federal Official, at (202) 366-9126, no later than July 31, 2013.

Questions about the agenda or written comments may be submitted by U.S. Mail to: U.S. Department of Transportation, Research and Innovative Technology Administration, ITS Joint Program Office, Attention: Stephen Glasscock, 1200 New Jersey Avenue SE., HOIT, Washington, DC 20590 or faxed to (202) 493-2027. The ITS Joint Program Office requests that written comments be submitted not later than July 31, 2013.

Notice of this meeting is provided in accordance with the Federal Advisory Committee Act and the General Services Administration regulations (41 CFR Part 102-3) covering management of Federal advisory committees.

Issued in Washington, DC, on the 15th day of July 2013.
John Augustine,
Managing Director, ITS Joint Program Office.

[FR Doc. 2013-17358 Filed 7-18-13; 8:45 am]

BILLING CODE 4910-HY-P